DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Phase I of the National Evaluation of the Comprehensive Community Mental Health Services for Children and Their Families Program (0930-0171—Extension, revision)—The core and comparison studies of the evaluation collect information on child and family demographics, child mental health status, and service system development. In the core study, data were collected from children and families at intake into services, 6 months later, and every 12 months thereafter while the children remain in services. In the comparison study component, information is collected at intake, 6 months, 12 months, 24 months, and annually thereafter. In both studies, data were collected annually from grantees' administrators and providers.

SAMHSA's Center for Mental Health Services (CMHS) is seeking OMB approval for a 4-month extension of approval for the comparison study of this evaluation of integrated child mental health service systems funded by CMHS to allow sufficient follow-up data to be collected. The comparison study of the evaluation collects information on child and family demographics, and child mental health status and social functioning. The table below summarizes burden for this extension.

Respondent | Average number of respondents | Average number of responses | Average hours per response | Total burden
Currently approved |  |  |  | 1493
Caregivers | 400 | .94 | 1.20 | 451
Youth | 240 | 1.11 | 1.04 | 277
Administrators/providers | 75 | 2.69 | 0.25 | 50
Total | 715 |  |  | 778

Written comments and recommendations concerning the proposed information collection should be sent within 30 days of this notice to: Allison Eydt, Human Resources and Housing Branch, Office of Management and Budget, New Executive Office Building, Room 10235, Washington, D.C. 20503.

Dated: June 13, 2000.
Richard Kopanda,
Executive Officer, SAMHSA.

[FR Doc. 00-15460 Filed 6-19-00; 8:45 am]

BILLING CODE 4162-20-P